COMMISSION ON CIVIL RIGHTS

Agenda and Notice of Public Meeting of the New Jersey State Advisory Committee

Notice is hereby given, pursuant to the provisions of the rules and regulations of the United States Commission on Civil Rights (the Commission), and the Federal Advisory Committee Act (FACA), that an orientation meeting and planning meeting of the New Jersey State Advisory Committee to the Commission (the Committee) will be held at the Office of the Chancellor, Rutgers the State University, Center for Law and Justice, 123 Washington Street, Suite 590, Newark, New Jersey 07102. The meetings will convene at 10:00 a.m. (ET) on Monday, September 23, 2013. The purpose of the orientation meeting is to inform the newly appointed Committee members about the rules of operation of federal advisory committees and to select additional officers, as determined by the Committee. The purpose of the planning meeting is to discuss the findings and recommendations of the Committee's draft report on the accommodations made by New Jersey Department of Corrections to prisoners with non-apparent disabilities. If time permits, the Committee will also begin discussing potential topics that the Committee may study and report to the Commission.

Members of the public are entitled to submit written comments. The comments must be received in the regional office by Tuesday, October 22, 2013. Comments may be mailed to the Eastern Regional Office, U.S. Commission on Civil Rights, 1331 Pennsylvania Avenue NW., Suite 1150, Washington, DC 20425, faxed to (202) 376-7548, or emailed to ero@usccr.gov.

Persons needing accessibility services should contact the Eastern Regional Office at least ten (10) working days before the scheduled date of the meeting.

Records generated from this meeting may be inspected and reproduced at the Eastern Regional Office, as they become available, both before and after the meeting. Persons interested in the work of this advisory committee are advised to go to the Commission's Web site, www.usccr.gov, or to contact the Eastern Regional Office at the above email or street address.

The meeting will be conducted pursuant to the provisions of the rules and regulations of the Commission and FACA.

Dated: August 26, 2013.
David Mussatt,
Acting Chief, Regional Programs Coordination Unit.

[FR Doc. 2013-21119 Filed 8-28-13; 8:45 am]

BILLING CODE 6335-01-P